COMMISSION ON CIVIL RIGHTS

Notice of Public Meeting of the Mississippi Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Mississippi Advisory Committee (Committee) will hold a meeting on Thursday May 23, 2019, from 9:00 a.m.-4:00 p.m. CDT for the purpose of hearing public testimony on civil rights and prosecutorial discretion in the state.

DATES: The meeting will be held on Thursday May 23, 2019, from 9:00am-4:00pm CDT.

ADDRESSES: The Hilton Jackson, 1001 East County Line Road, Jackson, MS 39211.

FOR FURTHER INFORMATION CONTACT: Melissa Wojnaroski, DFO, at mwojnaroski@usccr.gov or 312-353-8311.

SUPPLEMENTARY INFORMATION:

Press Release: https://www.usccr.gov/press/2019/05-08-MS-Prosecutorial-Discretion-PR.pdf.

Informational Flyer: https://www.usccr.gov/press/2019/05-08-MS-Prosecutorial-Discretion-Flyer.pdf.

This meeting is free and open to the public. An open comment period will be provided beginning at 3pm to allow members of the public to make a statement as time allows. Persons with disabilities requesting reasonable accommodations should contact the Commission's Regional Programs Unit at 312-353-8311 at least ten days prior to the meeting.

Members of the public are also entitled to submit written comments; the comments must be received in the regional office within 30 days following the meeting. Written comments may be mailed to the Regional Programs Unit Office, U.S. Commission on Civil Rights, 230 S. Dearborn, Suite 2120, Chicago, IL 60604. They may also be faxed to the Commission at (312) 353-8324, or emailed to Corrine Sanders at csanders@usccr.gov. Persons who desire additional information may contact the Regional Programs Unit Office at (312) 353-8311.

Records generated from this meeting may be inspected and reproduced at the Regional Programs Unit Office, as they become available, both before and after the meeting. Records of the meeting will be available via www.facadatabase.gov under the Commission on Civil Rights, Mississippi Advisory Committee link. Persons interested in the work of this Committee are directed to the Commission's website, http://www.usccr.gov, or may contact the Regional Programs Unit Office at the above email or street address.

Agenda

Opening Remarks and Introductions (9:00 a.m.-9:15 a.m.)

Panel 1: Community & Advocates (9:15 a.m.-10:45 a.m.)

Panel 2: Defense & Public Aid Attorneys (11:00 a.m.-12:15 p.m.)

Break (12:15 p.m.-1:30 p.m.)

Panel 3: Judicial Officials & Prosecutors (1:30 p.m.-2:45 p.m.)

Open Public Comment Session (3:00 p.m.-4:00 p.m.)

Closing Remarks (4:00 p.m.)

Exceptional Circumstance: Pursuant to 41 CFR 102-3.150, the notice for this meeting is given less than 15 calendar days prior to the meeting because of the exceptional circumstances of panelist availability and hearing planned public testimony.

Dated: May 9, 2019.
David Mussatt,
Supervisory Chief, Regional Programs Unit.

[FR Doc. 2019-09862 Filed 5-13-19; 8:45 am]

BILLING CODE P